INTERNATIONAL TRADE COMMISSION

Investigation No. 337-TA-880

Certain Linear Actuators; Commission Determination Not To Review an Initial Determination Terminating the Investigation in Its Entirety

AGENCY: U.S. International Trade Commission.

ACTION: Notice.

SUMMARY: Notice is hereby given that the U.S. International Trade Commission has determined not to review the presiding administrative law judge's (“ALJ”) initial determination (“ID”) (Order No. 6) terminating the above-captioned investigation in its entirety based on withdrawal of the complaint.

FOR FURTHER INFORMATION CONTACT: Michael K. Haldenstein, Office of the General Counsel, U.S. International Trade Commission, 500 E Street SW., Washington, DC 20436, telephone (202) 205-3041. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 6, 2013, based on a complaint filed by Okin America, Inc. of Frederick, Maryland and Dewert Okin GmbH of Germany (collectively, “Okin”). 78 FR 26393 (May 6, 2013). The complaint alleges violations of section 337 of the Tariff Act of 1930, as amended (19 U.S.C. § 1337), in the importation into the United States, the sale for importation, and the sale within the United States after importation of certain linear actuators by reason of infringement of U.S. Patent No 5,927,144. The complaint further alleges the existence of a domestic industry. The Commission's notice of investigation named Changzhou Kaidi Electrical Co. Ltd. of China and Kaidi LLC of Eaton Rapids, Michigan (collectively, “Kaidi”) as the respondents. The Office of Unfair Import Investigation was named as a participating party.

On June 27, 2013, Okin filed a motion to terminate the investigation in its entirety based on withdrawal of the complaint. The motion stated that Kaidi and the Commission investigative attorney do not oppose the motion. On July 9, 2013, the ALJ issued the subject ID, granting Okin's motion pursuant to section 210.21(a)(1) of the Commission's Rules of Practice and Procedure (19 CFR 210.21(a)(1)). No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: August 1, 2013.
Lisa R. Barton,
Acting Secretary to the Commission.

[FR Doc. 2013-18971 Filed 8-6-13; 8:45 am]

BILLING CODE 7020-02-P